DEPARTMENT OF TRANSPORTATION

Federal Railroad Administration

[Docket Number FRA-2005-21153]

Notice of Application for Approval of Discontinuance or Modification of a Railroad Signal System or Relief From the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR part 236 as detailed below.

Applicants: National Railroad Passenger Corporation, Mr. R. Stephen Strachan, Chief Transportation Officer, 15 S. Poplar Street, Wilmington, Delaware 19801;

Norfolk Southern Corporation, Mr. Brian L. Sykes, Chief Engineer, C&S Engineering, 99 Spring Street, SW., Atlanta, Georgia 30303.

The National Railroad Passenger Corporation (Amtrak) and Norfolk Southern Railway Company, jointly seeks approval of the proposed modification of the signal system, between Lancaster, Pennsylvania, milepost 65.2 and Harrisburg, Pennsylvania, milepost 103.3, on Amtrak's Mid-Atlantic Division, Harrisburg Line. The proposal consists of the removal of all intermediate wayside signals, retaining only distant and home signals, in connection with the installation of full reverse signaling with cab signals and speed control between “Cork” and “State” Interlockings. In addition, the proposal includes the following:

1. All hand-operated switches on the main tracks will be electrically locked;

2. Hot box and dragging equipment detectors will be consolidated into one location for this portion of the line;

3. At the eastern most portion of existing Cork Interlocking, the No. 7 power-operated crossover will be replaced with a hand-operated switch equipped with an electric lock, the No. 1 power-operated crossover will be removed, Signals 2R/4R, 2L, 6L, 6R, 20L and 20R will be removed, and the No. 16 hand-operated switch to the New Holland Secondary will become power-operated, and will be remote-controlled via a new Control Point “Holland”;

4. The portion of Cork Interlocking just east of the Lancaster passenger station platforms will be remote-controlled via a new interlocking “Conestoga”, the tail track between existing Signals 14R and 20L will become a non signaled track used by maintenance of way equipment and occasional freight trains only, the electric lock on Switch No. 30A will be removed, the eastward and westward station tracks will be removed along with their signals, and the platforms will be extended to meet Main Tracks No.’s 1 and 2;

5. The portion of Cork Interlocking just west of the platforms will be reconfigured and remote-controlled and will retain the name “Cork,” Switches No.’s 49, 40A, 40C and 40D will be removed, and Signal 38L will be replaced by new Signal 7E, reducing the limits of the interlocking on the No. 7 track;

6. The western most portion of existing Cork Interlocking will be replaced with the new Control Point “Lititz,” Signals 66L, 66R and 62R will be removed and the No. 65 power-operated crossover will become Switch No. 25, a single power-operated turnout, and Signal 64R will be removed and a new signal 2W installed near the point of switch, reducing the limits of the interlocking on No. 2 track; and

7. At Roy Interlocking, the No.15 power-operated switch will be replaced with an electrically-locked, hand-operated switch, Signals 14L and 14C will be removed, and a new Signal 9W installed. This will establish the Route 441 highway-rail crossing outside of interlocking limits, and the crossing will be upgraded with a constant warning device.

The reason given for the proposed change is to retire facilities no longer required, to provide reverse signaling on all main tracks, to reconfigure Cork Interlocking to eliminate diverging moves for passenger trains stopping at the Lancaster Station, and to provide a 30-mph freight train route through Lancaster. Eventually, Amtrak intends to expand this system eastward all the way to Philadelphia.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on May 24, 2005.
Grady C. Cothen, Jr.,
Deputy Associate Administrator for Safety Standards and Program Development.

[FR Doc. 05-10697 Filed 5-27-05; 8:45 am]

BILLING CODE 4910-06-P